DEPARTMENT OF ENERGY

Federal Energy Regulatory Commission

[Project No. 14634-002]

New England Hydropower Company, LLC; Notice of Application Tendered for Filing With the Commission, Accepted for Filing, Ready for Environmental Analysis, and Soliciting Motions To Intervene and Protests, Comments, Terms and Conditions, Recommendations, and Prescriptions

May 17, 2019.

Take notice that the following hydroelectric application has been filed with the Commission and is available for public inspection.

a. Type of Application: Minor License.

b. Project No.: 14634-002.

c. Date filed: May 6, 2019.

d. Applicant: New England Hydropower Company, LLC (NEHC).

e. Name of Project: Ashton Dam Hydroelectric Project (Ashton Project).

f. Location: On the Blackstone River, near the Towns of Cumberland and Lincoln, Providence County, Rhode Island. No federal or tribal lands would be occupied by project works or located within the project boundary.

g. Filed Pursuant to: Federal Power Act 16 U.S.C. 791 (a)-825(r).

h. Applicant Contact: Mr. Michael C. Kerr, 100 Cummings Center, Suite 451C, Beverly, MA 01915; phone (978) 360-2547 or email at Michael@nehydropower.com.

i. FERC Contact: Patrick Crile, (202) 502-8042 or Patrick.Crile@ferc.gov.

j. In response to Commission staff's March 7, 2019 letter rejecting NEHC's October 1, 2018 application for a small hydropower exemption from licensing for the Ashton Dam Project No. 14634-001, NEHC informed the Commission on March 19, 2019 of its intent to convert its exemption application to a license application. Pursuant to Commission staff's March 7, 2019 letter, NEHC submitted additional information necessary to augment the exemption application and convert it to a license application, including information filed on April 26, 2019, May 2, 2019, and May 6, 2019 in Docket Number P-14634-002.

k. As proposed, the Ashton Project would consist of: (1) An existing concrete gravity dam that includes: (a) An approximately 193-foot-long western spillway section; (b) an approximately 57-foot-long middle spillway section with a crest gate proposed to be repaired; and (c) a proposed new 58-foot-long eastern section with three proposed 12-foot-wide, 8.8-foot-high steel sluice gates; (2) an existing 25-acre impoundment with a normal storage capacity of 200 acre-feet at an operating elevation of approximately 73.6 feet North American Vertical Datum of 1988; (3) a new 58-foot-wide intake canal; (4) a 39-foot-wide, 11-foot-high steel trashrack with 9-inch clear bar spacing; (5) a new 30-foot-long, 49-foot-wide, 14-foot-high concrete penstock; (6) a new 53-foot-long, 24-foot-wide, 18-foot-high concrete powerhouse containing three new 20.4-foot-long, 13.5-foot-diameter Archimedes Screw turbine-generator units, with a total installed capacity of 507 kilowatts, each contained in a new 15-foot-wide steel trough; (7) a new 120-foot-long tailrace; (8) a new step-up transformer and 800-foot-long above-ground transmission line connecting the project to the distribution system owned by Narragansett Electric Company; (9) a new access road; and (10) appurtenant facilities.

NEHC proposes to operate the project in a run-of-river mode with an estimated annual energy production of approximately 2,130 megawatt-hours.

l. A copy of the license application is available for review at the Commission in the Public Reference Room or may be viewed on the Commission's website (http://www.ferc.gov), using the “eLibrary” link. Enter the docket number, excluding the last three digits in the docket number field to access the document (P-14634). For assistance, contact FERC Online Support at FERCOnlineSupport@ferc.gov, toll free at 1-866-208-3676, or TTY at (202) 502-8659. A copy is also available for inspection and reproduction at the Cumberland Town Hall, 45 Broad Street, Cumberland, RI 02864.

You may also register online at http://www.ferc.gov/docs-filing/esubscription.asp to be notified via email of new filings and issuances related to this or other pending projects. For assistance, contact FERC Online Support.

m. The license application has been accepted for filing and is now ready for environmental analysis.

n. Cooperating agencies: Federal, state, local, and tribal agencies with jurisdiction and/or special expertise with respect to environmental issues that wish to cooperate in the preparation of the environmental document should follow the instructions for filing such requests described in item o below. Cooperating agencies should note the Commission's policy that agencies that cooperate in the preparation of the environmental document cannot also intervene. See 94 FERC ¶ 61,076 (2001).

o. Deadline for filing requests for cooperating agency status, motions to intervene, protests, comments, terms and conditions, recommendations, and prescriptions: 60 days from the issuance date of this notice; reply comments are due 105 days from the issuance date of this notice.

The Commission strongly encourages electronic filing. Please file requests for cooperating agency status, motions to intervene, and protests, comments, terms and conditions, recommendations, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, please send a paper copy to: Secretary, Federal Energy Regulatory Commission, 888 First Street NE, Washington, DC 20426. The first page of any filing should include docket number P-14634-002.

The Commission's Rules of Practice require all intervenors filing documents with the Commission to serve a copy of that document on each person on the official service list for the project. Further, if an intervenor files comments or documents with the Commission relating to the merits of an issue that may affect the responsibilities of a particular resource agency, they must also serve a copy of the document on that resource agency.

p. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant named in this public notice.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “NOTICE OF INTENT TO FILE COMPETING APPLICATION,” “COMPETING APPLICATION,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions, or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

q. Waiver of Pre-filing Consultation: Based on a review of the application, resource agency consultation letters, and comments filed to date, we accept the consultation that has occurred on this project as satisfying our requirements for the standard 3-stage consultation process under 18 CFR 4.38, and are waiving the requirement to conduct second stage consultation pursuant to section 4.38(c)(4) of the regulations, as requested by NEHC.

r. Waiver of Additional Study Requests: On October 11, 2018, Commission staff provided public notice of NEHC's exemption application for the Ashton Project and solicited additional study requests from resource agencies, Indian Tribes, and the public pursuant to section 4.32(b)(7) of the Commission's regulations. No study requests were filed in response to Commission staff's notice, and the additional information filed by NEHC to convert the exemption application to a license application does not materially change NEHC's proposed project. Accordingly, there is no indication that additional studies are needed to form an adequate factual basis for an analysis of the application. Therefore, the opportunity to submit additional study requests for the project pursuant to section 4.32(b)(7) of the Commission's regulations is waived.

s. Based on the presence of an existing dam, the applicant's coordination with federal and state agencies during the preparation of the application, and studies completed during pre-filing consultation, we accept the consultation that has occurred on this project during the pre-filing period as satisfying National Environmental Policy Act (NEPA) scoping. Based on a review of the application, resource agency consultation letters, and comments filed to date, Commission staff intends to prepare a single environmental assessment (EA) for the proposed project. Commission staff determined that the issues that need to be addressed in its EA have been adequately identified during the pre-filing period, which included a public meeting, and no new issues are likely to be identified through additional scoping. The EA will consider assessing the potential effects of project construction and operation on geology and soils, aquatic, terrestrial, threatened and endangered species, recreation and land use, and cultural and historic resources.

t. With this notice, we are initiating informal consultation with the U.S. Fish and Wildlife Service and NOAA Fisheries under section 7 of the Endangered Species Act and the joint agency regulations thereunder at 50 CFR part 402; and NOAA Fisheries under section 305(b) of the Magnuson-Stevens Fishery Conservation and Management Act and implementing regulations at 50 CFR 600.920. We are also initiating consultation with the Rhode Island State Historic Preservation Officer, as required by section 106 of the National Historic Preservation Act, and the implementing regulations of the Advisory Council on Historic Preservation at 36 CFR 800.2.

u. The license applicant must file no later than 60 days following the date of issuance of this notice: (1) A copy of the water quality certification; (2) a copy of the request for certification, including proof of the date on which the certifying agency received the request; or (3) evidence of waiver of water quality certification.

v. Procedural Schedule and Final Amendments: The application will be processed according to the following preliminary schedule. Revisions to the schedule will be made as appropriate.

Milestone | Target date
Filing of interventions, protests, comments, recommendations, terms and conditions, and fishway prescriptions | July 2019.
Commission issues Environmental Assessment | December 2019.

Final amendments to the application must be filed with the Commission no later than 30 days from the issuance date of this notice.

Dated: May 17, 2019.
Nathaniel J. Davis, Sr.,
Deputy Secretary.

[FR Doc. 2019-10883 Filed 5-23-19; 8:45 am]

BILLING CODE 6717-01-P